NATIONAL AERONAUTICS AND SPACE ADMINISTRATION

14 CFR Part 1260

RIN 2700-AC74

NASA Grant and Cooperative Agreement Handbook—Investigative Requirements

AGENCY: National Aeronautics and Space Administration.

ACTION: Proposed rule.

SUMMARY: This rule proposes to amend the existing “Investigative Requirements” provision of the NASA Grant and Cooperative Agreement Handbook to require recipients of grants and cooperative agreements to ensure that individuals needing access to a NASA Center, facility, or computer system, or to NASA technical information, provide the personal background and biographical information requested by NASA.

DATES: Comments should be submitted on or before October 14, 2003.

ADDRESSES: Interested parties should submit written comments to Paul Brundage, NASA Headquarters, Office of Procurement, Contract Management Division (Code HK), Washington DC 20546.

FOR FURTHER INFORMATION CONTACT: Paul Brundage, (202) 358-0481, e-mail: Paul.D.Brundage@nasa.gov.

SUPPLEMENTARY INFORMATION:

A. Background

NASA sometimes, albeit infrequently, requires information for investigations of individuals working on grants and cooperative agreements in order to determine whether to permit, deny, or restrict access to a NASA Center, facility, or computer system, or to NASA technical information. The provision at 1260.35, Investigative Requirements, is inserted in all grants and cooperative agreements to ensure recipients provide the information requested by NASA for any required investigation. This proposed change is needed because recipients of grants and cooperative agreements, especially educational institutions, often do not maintain or have access to the types of information required by the provision at 1260.35 about their staff, faculty, and students because of policy and legal restrictions. Instead of requiring the recipients to obtain and submit personal information, this proposed rule makes it clear that the individuals needing access may provide the requisite information directly to NASA. This proposed rule also clarifies that access is to NASA Centers, facilities, computer systems, and NASA technical information.

B. Regulatory Flexibility Act

NASA certifies that this proposed rule will not have a significant economic impact on a substantial number of small entities within the meaning of the Regulatory Flexibility Act, 5 U.S.C. 601 et seq, because there are few grants and cooperative agreements that require access to NASA Centers, facilities, and computer systems, or to NASA technical information. Furthermore, only a small portion of NASA's grants and cooperative agreements are awarded to small entities as defined in the statute.

C. Paperwork Reduction Act

The Paperwork Reduction Act does not apply because this proposed rule does not impose any new recordkeeping or information collection requirements, or collection of information from offerors, contractors, or members of the public that require the approval of the Office of Management and Budget under 44 U.S.C. 3501, et. seq.

List of Subjects in CFR Part 1260

Grant Programs—Science and Technology.

Tom Luedtke,
Assistant Administrator for Procurement.

Accordingly, 14 CFR part 1260 is proposed to be amended as follows:

1. The authority citation for 14 CFR 1260 continues to read as follows:

Authority: 42 U.S.C. 2473(c)(1), Pub. L. 97-258, and 96 Stat. 1003 (31 U.S.C. 6301, et seq.)

PART 1260—GRANTS AND COOPERATIVE AGREEMENTS

2. Section 1260.35 is revised to read as follows:

§ 1260.35 Investigative requirements.

Investigative Requirements

(XX/XX)

(a) NASA reserves the right to perform security checks and to deny or restrict access to a NASA Center, facility, or computer system, or to NASA technical information, as NASA deems appropriate. To the extent the Recipient needs such access for performance of the work, the Recipient shall ensure that individuals needing such access provide the personal background and biographical information requested by NASA. Individuals failing to provide the requested information will be denied such access.

(b) All requests to visit a NASA Center or facility must be submitted in a timely manner in accordance with instructions provided by that Center or facility.

[FR Doc. 03-20921 Filed 8-14-03; 8:45 am]

BILLING CODE 7510-01-P